DEPARTMENT OF ENERGY

National Energy Technology Laboratory; Notice of Availability of a Financial Assistance Solicitation

AGENCY: National Energy Technology Laboratory (NETL), Department of Energy (DOE).

ACTION: Notice of Availability of a Financial Assistance Solicitation.

SUMMARY: Notice is hereby given of the intent to issue Financial Assistance Solicitation No. DE-PS26-01NT40869 entitled “Methane Hydrates.” This solicitation supports the Department of Energy's Strategic Plan to develop the knowledge base for assessing the vast deposits of methane hydrates and to promote the technology for their safe and effective recovery. The solicitation is being issued by the Natural Gas Hydrate Program which is part of NETL's Strategic Center for Natural Gas. This solicitation will focus on gas hydrates in the Gulf of Mexico and the North Slope of Alaska. These are the two principal regions of industry interest, primarily because they contain known occurrences of hydrates the existing infrastructure for drilling and production of conventional hydrocarbons.

DATES: The solicitation will be available on the DOE/NETL's Internet address at http://www.netl.doe.gov/business on or about January 12, 2001. Since DOE does not intend to issue a draft solicitation on the subject solicitation, prospective applicants are invited to e-mail any comments and/or questions associated with the “need” areas identified in this announcement. Please submit all comments/questions to Dona Sheehan via the Internet at sheehan@netl.doe.gov by COB on January 5, 2001.

FOR FURTHER INFORMATION CONTACT: Dona G. Sheehan, U.S. Department of Energy, Nation Energy Technology Laboratory, P.O. Box 10940, MS 921-107, Pittsburgh, PA 15236-0940, E-mail Address: sheehan@netl.doe.gov, Telephone Number: 421/386-5918.

SUPPLEMENTARY INFORMATION: The solicitation will request R&D proposals for work in the Gulf of Mexico that will result in information and technology that promotes: (1) Safe drilling and production operations for conventional hydrocarbons in hydrate-bearing areas, (2) a better understanding of seafloor stability issues related to gas hydrates, (3) improved methodologies for hydrate resource characterization and (4) initiation of feasibility studies for producing methane from hydrates. Offerors should propose research that supports the needs of industry, as outlined in the “Gulf of Mexico Hydrates R&D Planning Workshop” report which is available on the web at www.netl.doe.gov/publications/proceedings/00/hydrates/00hydrate.html.

R&D proposals for work in the Alaskan North Slope will be requested that will result in information and technology leading to: (1) Improved imaging and characterization of the hydrate resource, (2) improved sampling and modeling techniques to develop hydrate reservoir information and (3) planning and feasibility analysis of production test well(s).

R&D proposals to evaluate the potential of utilizing synthetic hydrates to transport stranded gas to market, both in the offshore Gulf of Mexico and the onshore North Slope of Alaska, will also be requested.

DOE anticipates issuing financial assistance (Cooperative Agreement) awards. DOE reserves the right to support or not support, with or without discussions, any or all applications received in whole or in part, and to determine how may awards will be made.

Multiple awards are anticipated. Approximately $15 million of DOE funding is planned over a 3 year period for this solicitation. National Laboratories may participate as team members; however, they may not act as the prime awardee and total funding to the Laboratory must not exceed 15% of the total project cost. If a project which includes National Laboratory participation is approved for funding, DOE intends to make an award to the applicant for its portion of the effort and to provide direct funding for the National Laboratories portion of the effort as a Field Work Proposal (FWP). DOE has determined that a minimum cost share of 20 percent of the total project cost is required for this solicitation. Details of the cost sharing requirement and the specific funding levels will be contained in the solicitation. The anticipated period of performance of the projects will range in duration from 12 months to 48 months.

Prospective applicants who would like to be notified as soon as the solicitation is available should register at http://www.netl.doe.gov/business. Provide your E-mail address and click on the “Oil & Gas” technology choice located under the heading “Fossil Energy.” Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA on December 14, 2000.
Dale A. Siciliano,
Deputy Director, Acquisition and Assistance Division.

[FR Doc. 00-32858 Filed 12-22-00; 8:45 am]

BILLING CODE 6450-01-P